DEPARTMENT OF ENERGY

Federal Energy Regulatory Commission

[Docket Nos. ER96-1947-022; ER07-1001-001; ER07-1000-001; ER02-1052-008]

LS Power Marketing, LLC; Sugar Creek Power Company; Las Vegas Power Company, LLC; West Georgia Generating Company, LLC; Errata Notice

October 17, 2008.

On July 2, 2008, the Commission issued a notice in docket numbers ER96-1947-022, ER07-1001-001, ER02-1052-008, and ER07-1100-001. Combined Notice of Filings # 1, July 2, 2008. Docket number ER07-1100-001 and applicant Entergy Services, Inc. were inadvertently included in this proceeding. This errata notice corrects the docket numbers and applicants in this proceeding as reflected in the caption above.

Kimberly D. Bose,
Secretary.

[FR Doc. E8-25340 Filed 10-23-08; 8:45 am]

BILLING CODE 6717-01-P